DEPARTMENT OF THE INTERIOR

Fish and Wildlife Service

[FWS-R6-R-2014-N126; FXRS12610600000-145-FF06R06000]

San Luis Valley National Wildlife Refuge Complex, Alamosa, Rio Grande, and Saguache, CO; Comprehensive Conservation Plan and Environmental Impact Statement

AGENCY: Fish and Wildlife Service, Interior.

ACTION: Notice of availability; request for comments.

SUMMARY: We, the U.S. Fish and Wildlife Service, announce the availability of a draft comprehensive conservation plan (CCP) and draft environmental impact statement for the San Luis Valley National Wildlife Refuge Complex (refuge complex) in Alamosa, Rio Grande, and Saguache, Colorado. In these documents, we describe alternatives, including our proposed action alternative, to manage the refuge complex for the 15 years following approval of the final CCP.

DATES: To ensure consideration, please send your written comments by October 27, 2014. We will hold public meetings; see Public Meetings under SUPPLEMENTARY INFORMATION for dates, times, and locations.

ADDRESSES: You may submit your comments or requests for copies or more information by one of the following methods. You may request hard copies or a CD-ROM of the documents.

Email: SLVrefuges@fws.gov. Include “San Luis Valley National Wildlife Refuge Complex CCP” in the subject line of the message.

Fax: Attn: Laurie Shannon, Planning Team Leader, 303-236-4792.

U.S. Mail: Laurie Shannon, Planning Team Leader, Division of Refuge Planning, P.O. Box 25486, Denver, CO 80225-0486.

In-Person Drop-off: You may drop off comments during regular business hours at the above address, or at the San Luis Valley National Wildlife Refuge Complex administrative office located at 8249 Emperius Road, Alamosa, CO 81101.

FOR FURTHER INFORMATION CONTACT: Laurie Shannon, Planning Team Leader, 303-236-4317 (phone) or laurie_shannon@fws.gov (email); P.O. Box 25486, Denver Federal Center, Denver, CO 80225-0486.

SUPPLEMENTARY INFORMATION:

Introduction

With this notice, we continue the CCP process for the San Luis Valley National Wildlife Refuge Complex. We started this process through a notice in the Federal Register on March 15, 2011 (76 FR 14042). The refuge complex is located in the San Luis Valley, a high mountain basin located in Alamosa, Rio Grande, and Saguache Counties, Colorado. A wide variety of habitats are found across the three refuges, including wet meadows, playa wetlands, riparian areas within the flood plain of the Rio Grande and other creeks, desert shrublands, grasslands, and croplands. Totaling about 106,000 acres, the refuges are an important stopover for numerous migratory birds. The refuges support many groups of nesting, migrating, and wintering birds, including grebes, herons, ibis, ducks, geese, hawks, eagles, falcons, shorebirds, owls, songbirds, and others.

Background

The CCP Process

The National Wildlife Refuge System Administration Act of 1966, as amended (16 U.S.C. 668dd-668ee) (Administration Act) by the National Wildlife Refuge System Improvement Act of 1997, requires us to develop a CCP for each national wildlife refuge. The purpose for developing a CCP is to provide refuge managers with a 15-year plan for achieving refuge purposes and contributing toward the mission of the National Wildlife Refuge System (NWRS), consistent with sound principles of fish and wildlife management, conservation, legal mandates, and our policies. In addition to outlining broad management direction on conserving wildlife and their habitats, CCPs identify wildlife-dependent recreational opportunities available to the public, including, where appropriate, opportunities for hunting, fishing, wildlife observation and photography, and environmental education and interpretation. We will review and update the CCP at least every 15 years in accordance with the Administration Act.

Public Outreach

We started the public outreach process in March 2011. At that time and throughout the process, we requested public comments and considered them in numerous ways. Public outreach has included holding six public meetings, mailing planning updates, maintaining a project Web site, and publishing press releases. We have considered and evaluated all the comments we have received during this process.

CCP Alternatives We Are Considering

During the public scoping process with which we started work on this draft CCP and EIS, we, other governmental partners, Tribes, and the public raised several issues. Our draft CCP and EIS addresses them. A full description of each alternative is in the draft EIS. To address these issues, we developed and evaluated the following alternatives, summarized below.

Alternative A: No Action

Habitat and wildlife management: There would be few changes in management of habitats and wildlife populations across the refuge complex through the manipulation of water. We would continue to manage wetland areas, wet meadows, riparian areas, and upland habitats to provide for a variety of waterbirds and other migratory birds. We would continue to protect habitat for the federally endangered southwestern willow flycatcher and other species of concern, including the Rio Grande sucker and Rio Grande chub on Baca NWR. We would continue to produce small grains at current levels on Monte Vista NWR to provide food for spring-migrating sandhill cranes. The management of elk populations would be limited to nonlethal dispersal, agency culling, and the distribution hunts on the former State lands of Baca NWR. We would phase out the existing arrangement with The Nature Conservancy for season-long bison use within Baca NWR, and we would not use bison as a management tool in the future.

Water resources management: We would continue to manage water in the same manner, except as modified by changed State rules, regulations, and policies, and we would augment water supplies in accordance with State law.

Visitor services: We would continue to provide for limited wildlife-dependent public uses, including waterfowl and small game hunting on Monte Vista and Alamosa NWRs. We would not build new facilities to support visitor services. Baca NWR would remain closed to all public access except for limited guided tours, and access to refuge offices.

Cultural resources, partnerships, and refuge complex operations: There would be few changes from current management. When the legislation passed authorizing the Baca NWR, it did not come with additional funding, and additional operations costs were absorbed into the current operations. We would seek some additional staff and operations funding to support current management needs.

Wilderness review: We would not recommend protection for any areas having wilderness characteristics or values.

Alternative B: Proposed Action (Wildlife Populations, Strategic Habitat Restoration, and Enhanced Public Uses)

Habitat and wildlife management: Although we would manage wetland and riparian areas within the refuge complex to achieve a variety of wetland types and conditions in order to support a diversity of migratory birds, we would focus on the focal species, including the federally listed southwestern willow flycatcher and other wildlife species like the Rio Grande chub and Rio Grande sucker that represent larger regional and landscape conservation goals. In specific areas, we would restore historical water flow patterns through more effective and efficient water management practices (e.g., moving water to areas that historically held more water). This could include removal or replacement of water infrastructure. We would restore riparian habitat along streams in Baca NWR and along selected areas along the Rio Grande in Alamosa NWR, and we would manage upland habitats to create a variety of conditions to provide for a diversity of wildlife species. We would use public hunting, including elk hunting, to complement the State's management across the refuge complex, with more limited dispersal hunting used on Alamosa and Monte Vista NWRs. We would phase out the existing arrangement with The Nature Conservancy for bison management on Baca NWR, but we would research the feasibility of using semi-free-ranging bison year-round to effectively maintain and enhance refuge habitats. We would continue to grow limited amounts of small grain on Monte Vista NWR to provide food for spring-migrating sandhill cranes.

Water resources management: We would continue to work with other landowners and agencies throughout the watershed to keep flexibility as well as to protect and, if necessary, augment our water rights as State regulations evolve. Our water infrastructure, delivery, and efficiencies would require upgrades to make sure our wildlife, habitat, and visitor services objectives are met.

Visitor services: In addition to allowing for waterfowl and limited small game hunting, we would offer limited elk hunting on Monte Vista and Alamosa NWRs, and we would open Baca NWR for big game and small game hunting. We would improve public access on Monte Vista and Alamosa NWRs, including allowing more access from approximately July 15 through February 28 for wildlife viewing and interpretation on roads and trails that are currently only open to waterfowl hunters during hunting season. We would also improve existing access. We would seek funding to build a visitor center and refuge complex offices at Monte Vista NWR to provide for safer access to the refuge complex headquarters and to provide for a modern work environment, as well as to offer a place for visitors to come and learn more about the refuge complex resources. We would open Baca NWR for a variety of compatible, wildlife-dependent opportunities, including providing facilities to support them, including an auto tour route, trails, viewing blinds, and offering interpretation and environmental education programs.

Cultural resources, partnerships, and refuge complex operations: We would increase our efforts toward identifying and protecting the significant cultural resources found on the refuge complex. We would work with partners and volunteers to accomplish our objectives, but we would also seek increased staffing levels of both full-time and seasonal employees, as well as increased funding for operations.

Wilderness review: We would recommend protection of about 13,800 acres along the southeastern boundary of Baca NWR and adjacent to Great Sand Dunes National Park and Preserve that possess wilderness characteristics and values.

Alternative C: Habitat Restoration and Ecological Processes

Habitat and wildlife management: We would take all feasible actions to restore—or mimic, where needed—the native vegetation community, based on ecological site characteristics, ecological processes, and other factors. We would restore the function of the riparian and playa areas on the Baca NWR. Where possible, we would restore natural waterflow patterns. We would phase out and end the production of small grains for migrating sandhill cranes on Monte Vista NWR. Similar to alternative B, we would use hunting to manage elk populations across the refuge complex. Periodically (not annually), we would use bison on Baca NWR to mimic the ecological benefit they may have once provided.

Water resources management: We would manage water to restore the hydrologic conditions, with less focus on habitat management for specific species or for providing wildlife viewing. In some years, water might not be available to meet life cycle needs for some waterfowl species. Existing water infrastructure would be removed or modified as needed.

Visitor services: We would continue to allow waterfowl and limited small game hunting on the Monte Vista and Alamosa NWRs. Similar to under alternative B, we would open the Baca NWR for big game and small game hunting, whereas, on the Monte Vista and Alamosa NWRs, we would rely on limited public hunting or agency dispersal methods for elk management.

There may be other changes in public use, depending on the habitat management action. Some areas could be closed, or wildlife viewing would be more limited. Current public access would be evaluated on the Alamosa and Monte Vista NWRs. If existing roads or trails are not needed, or if these facilities fragment habitat, they could be removed or altered. Viewing areas for sandhill cranes may be moved, depending on restoration efforts. As under alternative B, on Monte Vista and Alamosa NWRs, we would also allow for additional walking and biking on trails and roads within the hunt boundary from July 15 through February 28. We would not build a refuge headquarters or visitor center on Monte Vista Refuge. Except for limited hunting access to achieve our management objectives, there would be few visitor facilities or programs on Baca NWR, and most of the refuge would remain closed.

Cultural resources, partnerships, and refuge complex operations: Our actions would be similar to those under alternative B, except that on Baca NWR, roads that are not needed or that are fragmenting habitat would be removed.

Wilderness review: This would be the same as under alternative B; we would recommend protection of about 13,800 acres along the southeastern boundary of Baca NWR.

Alternative D: Maximize Public Use Opportunities

Habitat and wildlife management: Under this alternative, our habitat management practices would be a blend of alternatives A and B. We would manage wildlife habitats on the refuge complex consistent with our mission and purposes, while maximizing and emphasizing quality visitor experiences and wildlife-dependent public uses. For example, we could irrigate areas that are closer to public access to facilitate wildlife viewing. We would increase agricultural production of small grains for sandhill cranes on Monte Vista NWR, including the consideration of producing grain in specific places to enhance wildlife viewing. We would offer a variety of opportunities for elk hunting (e.g., youth hunts or additional provisions for persons with disabilities), managing numbers at levels that would restore and foster the long-term health of native plant communities. We would introduce and manage a small bison herd on a confined area of the Baca NWR, emphasizing wildlife viewing and interpretive opportunities.

Water resources management: We would manage water similar to alternative B, except we would make a concerted effort to make sure there is water in specific areas to enhance wildlife viewing; this practice could require additional augmentation of water.

Visitor services: We would provide for the widest variety of compatible wildlife-dependent recreation. Similar to under alternative B, public access and visitor programs would be expanded; however, there would be additional trails, viewing blinds, and seasonal auto tour routes across the refuge complex. Subsequently, we would increase interpretation and environmental education opportunities and seek more staff, volunteers, and partnerships to support the visitor services program. We would allow for limited fishing access on Alamosa NWR. We would also consider additional commercial uses.

Cultural resources, partnerships and refuge complex operations: Our actions would be similar to those under alternative B, except there would be greater emphasis on using students and volunteers to help us survey areas with high potential for cultural resources. We would pursue more outside partnerships and seek to increase staffing and funding to support our refuge complex operations.

Wilderness review: This would be the same as that under alternative B; we would recommend protection of about 13,800 acres along the southeastern boundary of Baca NWR.

Public Availability of Documents

In addition to any one method in ADDRESSES, you can view or obtain documents at the following locations:

• Our Web site: http://www.fws.gov/mountain-prairie/planning/ccp/co/alm_bac_mtv/alm_bac_mtv.html.

• Public libraries:

Library | Address | Phone number
Alamosa Public Library | 300 Hunt Avenue, Alamosa, CO 81101 | (719) 589-6592
Carnegie Public Library | 120 Jefferson Street, Monte Vista, CO 81144 | (719) 852-3931
Baca Grande Library | 67487 County Road T, Crestone, CO 81131 | (719) 256-4100
Saguache Public Library | 702 Pitkin Ave, Saguache, CO 81149 | (719) 655-2551

Public Meetings

Opportunity for public input will be provided at public meetings. The specific dates and times for the public meetings are yet to be determined, but will be announced via local media and a planning update.

Submitting Comments/Issues for Comment

We particularly seek comments on the following issues:

• Issue 1—Habitat and wildlife management;

• Issue 2—Water resources management;

• Issue 3—Landscape conservation and protection;

• Issue 4—Visitor services management;

• Issue 5—Partnerships and refuge operations;

• Issue 6—Cultural resources management and tribal coordination;

• Issue 7—Research, science, and wilderness review;

We consider comments substantive if they:

• Question, with reasonable basis, the accuracy of the information in the document;

• Question, with reasonable basis, the adequacy of the environmental assessment;

• Present reasonable alternatives other than those presented in the draft EIS; and/or

• Provide new or additional information relevant to the assessment.

Next Steps

After this comment period ends, we will analyze the comments and address them in the form of a final CCP and final EIS.

Public Comments

Before including your address, phone number, email address, or other personal identifying information in your comment, you should be aware that your entire comment—including your personal identifying information—may be made publicly available at any time. While you can ask us in your comment to withhold your personal identifying information from public review, we cannot guarantee that we will be able to do so.

Dated: July 16, 2014.
Matt Hogan,
Acting, Regional Director, Mountain-Prairie Region, U.S. Fish and Wildlife Service.

[FR Doc. 2014-20236 Filed 8-25-14; 8:45 am]

BILLING CODE 4310-55-P